NATIONAL SCIENCE FOUNDATION

Request for Information; Strategic Plan

AGENCY: National Science Foundation.

ACTION: Request for information; correction.

SUMMARY: The National Science Foundation (NSF) published a document in the Federal Register of December 10, 2020, concerning a request for public comment on the 2022-2026 Strategic Plan for the National Science Foundation. The notice was published without links to the document under review as well as the current strategic plan. This notice now includes those links. The Government Performance and Results Act (GPRA) and GPRA Modernization act of 2010 requires federal agencies to publish their strategic and performance plans in pursuit of their missions. Through this Request for Information (RFI), the National Science Foundation (NSF) seeks public comment on the key elements of the strategic plan—the Vision, Core Values, Strategic Goals, and Strategic Objectives—and high-level questions that will guide the development of the 2022-2026 NSF Strategic Plan.

DATES: Please send comments on or before January 22, 2021. Comments received after that date will be considered to the extent practicable. Send comments to the address below.

ADDRESSES: Submit comments to the strategic planning website, https://www.nsf.gov/od/oia/strategicplan/feedback.jsp. Individuals who use a telecommunications device for the deaf (TDD) may call the Federal Information Relay Service (FIRS) at 1.800.877.8339, 24 hours a day, 7 days a week, 365 days a year (including Federal holidays).

SUPPLEMENTARY INFORMATION:

1.0 Background

NSF was created “to promote the progress of science; to advance the national health, prosperity, and welfare; to secure the national defense . . .” (1950, as amended). Looking ahead, NSF aims to advance the frontiers of research into the future and secure global leadership in science and engineering, while ensuring accessibility and inclusivity. To meet these aims, NSF expands knowledge in science, engineering, and learning, and advances the capability of the nation to meet current and future challenges, while continuing to enhance its performance.

2.0 Request for Information

Through this Request for Information (RFI), the National Science Foundation (NSF) seeks comment from a broad array of stakeholders regarding the 2022-2026 Strategic Plan. Comments should be submitted to the strategic plan website, https://www.nsf.gov/od/oia/strategicplan/feedback.jsp, and should reference the previous NSF Strategic plan for FY 2018-2022 which can be found here, https://www.nsf.gov/pubs/2018/nsf18045/nsf18045.pdf. We welcome comments on the key elements of the strategic plan, including Vision, Core Values, Strategic Goals, and Strategic Objectives, and answers to the following questions:

1. What are the interests, values and emergent science and policy issues that the Strategic Plan should recognize?

2. How can NSF help maintain US leadership in an evolving global research and education landscape?

3. How can the plan best underscore the importance to the Nation of fundamental research and its broader impacts?

Dated: December 11, 2020.
Suzanne H. Plimpton,
Reports Clearance Officer, National Science Foundation.

[FR Doc. 2020-27672 Filed 12-15-20; 8:45 am]

BILLING CODE 7555-01-P